DEPARTMENT OF THE INTERIOR

National Park Service

[NPS-WASO-BSD-10878; 2410-OYC]

Proposed Information Collection; Request for Comments: Submission of Offers in Response to Concession Opportunities

AGENCY: National Park Service (NPS), Interior.

ACTION: Notice; request for comments.

SUMMARY: We (National Park Service) will ask the Office of Management and Budget (OMB) to approve the information collection (IC) described below. To comply with the Paperwork Reduction Act of 1995 and as a part of our continuing efforts to reduce paperwork and respondent burden, we invite the general public and other Federal agencies to comment on this IC. This IC is scheduled to expire on March 31, 2013. We may not conduct or sponsor and a person is not required to respond to a collection unless it displays a currently valid OMB control number.

DATES: Please submit your comment on or before September 24, 2012.

ADDRESSES: Please send your comments on the IC to Madonna Baucum, Information Collection Clearance Officer, National Park Service, 1201 Eye St. NW., MS 1242, Washington, DC 20005 (mail); or madonna_baucum@nps.gov (email). Please reference “1024-0125, Submission of Offers in Response to Concession Opportunities” in the subject line of your comments.

FOR FURTHER INFORMATION CONTACT: Jo A. Pendry, Chief, Commercial Services Program, 1201 Eye St. NW., Washington, DC 20005. You may send an email to jo_pendry@nps.gov or contact her by telephone at (202) 513-7156 or via fax at (202) 371-2090.

SUPPLEMENTARY INFORMATION:

I. Abstract

The regulations at 36 CFR Part 51 primarily implement Title IV of the National Parks Omnibus Management Act of 1998 (Pub. L. 105-391 or the Act), which provides legislative authority, policies and requirements for the solicitation, award and administration of National Park Service (NPS) concession contracts. The regulations require the submission of offers by parties interested in applying for a NPS concession contract.

II. Data

OMB Control Number: 1024-0125.

Title: Submission of Offers in Response to Concession Opportunities, 36 CFR 51.

Form(s): None.

Type of Request: Extension of a previously approved collection of information.

Description of Respondents: Businesses, individuals, and nonprofit organizations.

Respondent's Obligation: Required to obtain or retain benefits.

Frequency of Collection: On Occasion.

Estimated Number of Annual Respondents: 240.

Completion Time per Response: 320 hours.

Estimated Total Annual Burden Hours: 76,800.

Estimated Annual Nonhour Burden Cost: $1,120,000.

III. Comments

We invite comments concerning this IC on:

• Whether or not the collection of information is necessary, including whether or not the information will have practical utility;

• The accuracy of our estimate of the burden for this collection of information;

• Ways to enhance the quality, utility, and clarity of the information to be collected; and

• Ways to minimize the burden of the collection of information on respondents.

Please note that the comments submitted in response to this notice are a matter of public record. Before including your address, phone number, email address, or other personal identifying information in your comment, you should be aware that your entire comment, including your personal identifying information, may be made publicly available at any time. While you can ask us in your comment to withhold your personal identifying information from public review, we cannot guarantee that we will be able to do so.

Dated: July 18, 2012.
Madonna L. Baucum,
Information Collection Clearance Officer, National Park Service.

[FR Doc. 2012-17977 Filed 7-23-12; 8:45 am]

BILLING CODE 4312-52-P